DEPARTMENT OF DEFENSE

GENERAL SERVICES ADMINISTRATION

NATIONAL AERONAUTICS AND SPACE ADMINISTRATION

48 CFR Parts 1, 5, 6, 9, 31, and 52

[FAC 2001-06; Item VIII]

Federal Acquisition Regulation; Technical Amendments

AGENCIES: Department of Defense (DoD), General Services Administration (GSA), and National Aeronautics and Space Administration (NASA).

ACTION: Final rule.

SUMMARY: This document makes amendments to the Federal Acquisition Regulation in order to update references and make editorial changes.

DATES: Effective Date: April 4, 2002.

FOR FURTHER INFORMATION CONTACT: The FAR Secretariat, Room 4035, GS Building, Washington, DC 20405, (202) 501-4755. Please cite FAC 2001-06, Technical Amendments.

List of Subjects in 48 CFR Parts 1, 5, 6, 9, 31, and 52

Government procurement.

Dated: March 6, 2002.
Al Matera,
Director, Acquisition Policy Division.

Therefore, DoD, GSA, and NASA amend 48 CFR parts 1, 5, 6, 9, and 52 as set forth below:

1. The authority citation for 48 CFR parts 1, 5, 6, 9, and 52 continues to read as follows:

Authority: 40 U.S.C. 486(c); 10 U.S.C. chapter 137; and 42 U.S.C. 2473(c).

PART 1—FEDERAL ACQUISITION REGULATIONS SYSTEM

1.404 [Amended]

2. Amend section 1.404 in paragraph (c) by removing “Associate” and adding “Assistant” in its place.

PART 5—PUBLICIZING CONTRACT ACTIONS

5.207 [Amended]

3. Amend section 5.207(c)(4) in paragraph 6. of “Format Item and Explanation/Description of Entry” by removing “5.207(g)” and adding “5.207(h)” in its place.

PART 6—COMPETITION REQUIREMENTS

6.302-5 [Amended]

4. Amend section 6.302-5 in paragraph (b)(2) by removing the word “Handicapped” and adding “Disabled” in its place.

PART 9—CONTRACTOR QUALIFICATIONS

9.104-3 [Amended]

5. Amend section 9.104-3 in paragraph (c) by removing “(see Affiliates and Concerns in 19.101)” and adding “(see Concern in 19.001 and Affiliates in 19.101)” in its place.

PART 31—CONTRACT COST PRINCIPLES AND PROCEDURES

31.101 [Amended]

6. Amend section 31.101 in the next-to-the-last sentence by removing “Associate” and adding “Assistant” in its place.

PART 52—SOLICITATION PROVISIONS AND CONTRACT CLAUSES

52.219-19 [Amended]

7. Amend section 52.219-19 in the introductory text by removing “19.1007(a)” and adding “19.1008(a)” in its place.

52.219-20 [Amended]

8. Amend section 52.219-20 in the introductory text by removing “19.1007(b)” and adding “19.1008(b)” in its place.

[FR Doc. 02-5827 Filed 3-19-02; 8:45 am]

BILLING CODE 6820-EP-P